DEPARTMENT OF ENERGY

Federal Energy Regulatory Commission

[Docket No. RM11-2-000]

Smart Grid Interoperability Standards; Notice of Technical Conference

October 22, 2010.

Take notice that the Federal Energy Regulatory Commission (Commission) will convene a conference on November 14, 2010, from 10:30 a.m. to 11:30 a.m. Eastern time in conjunction with the NARUC/FERC Collaborative on Smart Response (Collaborative), in the International D Ballroom at the Omni Hotel at CNN Center in Atlanta, GA. The technical conference will be open to the public and advance registration is not required. The Commission is holding this conference together with a number of State regulatory authorities that also are considering the adoption of Smart Grid Interoperability Standards (Standards) in their States.

On October 6, 2010, the National Institute of Standards and Technology (NIST) informed the Commission by letter of the posting of several groups of Standards which NIST identified as ready for consideration by regulators. Commissioners from State public utility commissions and the Commission will receive briefings on the first set of Standards posted by NIST at the technical conference.

Interested regulators may consider these Standards because they include emerging technology standards that may affect all electric facilities including generation, transmission, and distribution facilities as well as metering and communications at all levels. This technical conference provides an opportunity for both the Commission and interested State regulatory authorities to hear directly from NIST and others involved in the standards development process. The Commission will issue an agenda at a later date.

Transcripts of the technical conference will be made available. Instructions for obtaining transcripts will be published at a later date.

Prior to the technical conference other topics will be discussed by the Collaborative. Visit NARUC's Web site, http://annual.narucmeetings.org/, for detailed information on the agenda for that portion of the meeting, which begins at 8:15 a.m. Following the technical conference, from 11:30 a.m. until 12:30 p.m., the Collaborative will hold an informal, off-the-record discussion about the Standards, the Standards setting process, and the issues that their adoption may present. These portions of the meeting will also be open to the public, but will not be recorded.

Commission conferences are accessible under section 508 of the Rehabilitation Act of 1973. For accessibility accommodations, please send an e-mail to accessibility@ferc.gov or call toll free (866) 208-3372 (voice) or (202) 208-1659 (TTY), or send a FAX to (202) 208-2106 with the required accommodations.

For more information about this conference, please contact Sandra Waldstein at (202) 502-8092 or sandra.waldstein@ferc.gov.

Kimberly D. Bose,
Secretary.

[FR Doc. 2010-27405 Filed 10-28-10; 8:45 am]

BILLING CODE 6717-01-P